DEPARTMENT OF ENERGY

Federal Energy Regulatory Commission

[Docket No. RP04-247-000]

Overthrust Pipeline Company; Notice of Cost and Revenue Study

April 6, 2004.

Take notice that on April 1, 2004, Overthrust Pipeline Company, (Overthrust) submitted its Cost and Revenue Study (C&R) for the 12 months ended December 31, 2003.

Overthrust states that the filing is made in compliance with the Settlement approved by a Commission order issued July 13, 2000, in Docket No. RP00-2-000.

Overthrust states that a copy of this filing has been served upon Overthrust's jurisdictional customers, the Wyoming Public Service Commission, and the Utah Division of Public Utilities.

Any person desiring to be heard or to protest said filing should file a motion to intervene or a protest with the Federal Energy Regulatory Commission, 888 First Street, NE., Washington, DC 20426, in accordance with sections 385.214 or 385.211 of the Commission's rules and regulations. All such motions or protests must be filed on or before the date as indicated below. Protests will be considered by the Commission in determining the appropriate action to be taken, but will not serve to make protestants parties to the proceedings. Any person wishing to become a party must file a motion to intervene. This filing is available for review at the Commission in the Public Reference Room or may be viewed on the Commission's Web site at http://www.ferc.gov using the eLibrary. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the e-Filing link.

Intervention and Protest Date: April 13, 2004.

Linda Mitry,
Acting Secretary.

[FR Doc. E4-813 Filed 4-13-04; 8:45 am]

BILLING CODE 6717-01-P